DEPARTMENT OF TRANSPORTATION

Federal Aviation Administration

14 CFR Part 39

[Docket No. FAA-2011-1222; Directorate Identifier 2010-NM-268-AD; Amendment 39-17286; AD 2012-25-05]

RIN 2120-AA64

Airworthiness Directives; The Boeing Company Airplanes

AGENCY: Federal Aviation Administration (FAA), DOT.

ACTION: Final rule.

SUMMARY: We are adopting a new airworthiness directive (AD) for certain The Boeing Company Model 737-600, -700, -700C, -800, -900, and -900ER series airplanes. This AD was prompted by reports of escape slides failing to deploy from the forward and aft right-hand doors during scheduled maintenance slide deployments. This AD requires modifying the escape slide. Also, for certain airplanes, this AD requires modifying or replacing the Vespel piston. For certain other airplanes, this AD requires an additional modification of the escape slide. We are issuing this AD to prevent failure of an escape slide to deploy, which could result in the slide being unusable during an emergency evacuation and increased likelihood of injury to passengers or crewmembers due to the difficulty in evacuating the airplane.

DATES: This AD is effective January 31, 2013.

The Director of the Federal Register approved the incorporation by reference of certain publications listed in the AD as of January 31, 2013.

ADDRESSES: For service information identified in this AD, Goodrich Corporation, Aircraft Interior Products ATTN: Technical Publications, 3414 South Fifth Street, Phoenix, Arizona 85040; phone: 602-243-2270; Internet: http://www.goodrich.com/TechPubs. You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Sarah Piccola, Aerospace Engineer, Cabin Safety & Environmental Systems Branch, ANM-150S, Seattle Aircraft Certification Office (ACO), FAA, 1601 Lind Avenue SW., Renton, WA 98057-3356; phone: 425-917-6483; fax: 425-917-6590; email: sarah.piccola@faa.gov.

SUPPLEMENTARY INFORMATION:

Discussion

We issued a supplemental notice of proposed rulemaking (SNPRM) to amend 14 CFR part 39 to include an airworthiness directive (AD) that would apply to the specified products. That SNPRM published in the Federal Register on August 31, 2012 (77 FR 53155). The original NPRM (76 FR 69159, November 8, 2011) proposed to require checking the escape slide girt for serviceability, and replacement if necessary; modifying the cable routing provision; replacing the regulator padding; modifying the aspirator orientation; and modifying the valise. The original NPRM also proposed to require, for certain airplanes, modifying or replacing the Vespel piston, modifying the pilot valve regulator, installing a new firing cable and safety pin, and modifying the slide valise. The SNPRM proposed to add airplanes to the applicability of the original NPRM, and specify revised service information. For certain other airplanes, this AD requires an additional modification of the escape slide.

Comments

We gave the public the opportunity to participate in developing this AD. We have considered the comments received.

Support for the SNPRM (77 FR 53155, August 31, 2012)

Boeing stated that it concurs with the contents of the SNPRM (77 FR 53155, August 31, 2012), and therefore, no additional comments will be forthcoming.

Goodrich Corporation stated that the comments it submitted to the original NPRM (76 FR 69159, November 8, 2011) have been satisfactorily addressed, and therefore, it has no additional comments or changes to offer.

Conclusion

We reviewed the relevant data, considered the comments received, and determined that air safety and the public interest require adopting the AD as proposed-except for minor editorial changes. We have determined that these minor changes:

• Are consistent with the intent that was proposed in the SNPRM (77 FR 53155, August 31, 2012) for correcting the unsafe condition; and

• Do not add any additional burden upon the public than was already proposed in the SNPRM (77 FR 53155, August 31, 2012).

Additional Change Made to This Final Rule

We have removed the girt replacement on-condition cost specified in the SNPRM (77 FR 53155, August 31, 2012) from this AD, because the proposed girt check for continued serviceability was removed from the SNPRM and is not included in this AD.

Costs of Compliance

We estimate that this AD affects 557 airplanes of U.S. registry.

We estimate the following costs to comply with this AD:

Estimated Costs
Action | Labor cost | Parts cost | Cost per product | Cost on U.S. operators
Modify girt and valise, and replace padding | 2 work-hours × $85 per hour = $170 | $223 | $393 | $218,901.
Modify regulator valve, install cable and pin, and modify slide valise | 1 work-hour × $85 per hour = $85 | Between $1,749 and $1,836 | Between $1,834 and $1,921 | Between $1,021,538 and $1,069,997.
Modify Vespel piston | 1 work-hour × $85 per hour = $85 | $0 | $85 | $47,345.
Optional Vespel piston replacement | Up to 1 work-hour × $85 per hour = $85 | Up to $612 | Up to $697 | Up to $388,229.

According to the parts supplier, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2012-25-05 The Boeing Company: Amendment 39-17286; Docket No. FAA-2011-1222; Directorate Identifier 2010-NM-268-AD.

(a) Effective Date

This AD is effective January 31, 2013.

(b) Affected ADs

This AD affects AD 2008-24-08, Amendment 39-15748 (73 FR 72320, November 28, 2008).

(c) Applicability

This AD applies to The Boeing Company Model 737-600, -700, -700C, -800, -900, and -900ER series airplanes, certificated in any category, with Goodrich Corporation door escape slide part number (P/N) 5A3307-1, -3, -5, or -301, serial numbers (S/N) BNG0001 through BNG14499 inclusive.

(d) Subject

Joint Aircraft System Component (JASC)/Air Transport Association (ATA) of America Code 25, Equipment/Furnishings.

(e) Unsafe Condition

This AD was prompted by reports of escape slides failing to deploy from the forward and aft right-hand doors during scheduled maintenance slide deployments. We are issuing this AD to prevent failure of an escape slide to deploy, which could result in the slide being unusable during an emergency evacuation and increased likelihood of injury to passengers or crewmembers due to the difficulty in evacuating the airplane.

(f) Compliance

Comply with this AD within the compliance times specified, unless already done.

(g) Slide Modification

Within 36 months after the effective date of this AD: Modify the escape slide, in accordance with the Accomplishment Instructions of Goodrich Service Bulletin 5A3307-25-389, Revision 2, dated May 4, 2012.

(h) Concurrent Requirements

(1) For slide P/N 5A3307-301: Prior to or concurrently with accomplishing the actions required by paragraph (g) of this AD, modify the escape slide, in accordance with the Accomplishment Instructions of Goodrich Service Bulletin 5A3307-25-339, Revision 5, dated May 4, 2012.

(2) For slide P/N 5A3307-301 or 5A3307-5: Prior to or concurrently with accomplishing the actions required by paragraph (g) of this AD, modify the Vespel piston in the regulator valves, or replace the Vespel piston with a new or serviceable Vespel piston P/N 3A3566-2 or 3A3832-2, as applicable, in accordance with the Accomplishment Instructions of Goodrich Service Bulletin 25-349, Revision 1, dated January 11, 2010.

(i) Credit for Previous Actions

(1) This paragraph provides credit for the actions required by paragraph (h)(1) of this AD, if those actions were performed before the effective date of this AD using the service bulletins specified in paragraphs (i)(1)(i) through (i)(1)(iv) of this AD, which are not incorporated by reference in this AD.

(i) Goodrich Service Bulletin 5A3307-25-339, Revision 1, dated September 26, 2003.

(ii) Goodrich Service Bulletin 5A3307-25-339, Revision 2, dated March 31, 2004.

(iii) Goodrich Service Bulletin 5A3307-25-339, Revision 3, dated May 8, 2009.

(iv) Goodrich Service Bulletin 5A3307-25-339, Revision 4, dated October 1, 2011.

(2) This paragraph provides credit for the modification or replacement of the Vespel piston in the regulator valves required by paragraph (h)(2) of this AD, if those actions were performed before the effective date of this AD using Goodrich Service Bulletin 25-349, dated September 15, 2004, which is not incorporated by reference in this AD.

(j) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(k) Related Information

(1) For more information about this AD, contact Sarah Piccola, Aerospace Engineer, Cabin Safety & Environmental Systems Branch, ANM-150S, Seattle Aircraft Certification Office (ACO), FAA, 1601 Lind Avenue SW., Renton, WA 98057-3356; phone: 425-917-6483; fax: 425-917-6590; email: sarah.piccola@faa.gov.

(2) For Goodrich service information identified in this AD, contact Goodrich Corporation, Aircraft Interior Products, ATTN: Technical Publications, 3414 South Fifth Street, Phoenix, Arizona 85040; phone: 602-243-2270; Internet: http://www.goodrich.com/TechPubs.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Goodrich Service Bulletin 25-349, Revision 1, dated January 11, 2010.

(ii) Goodrich Service Bulletin 5A3307-25-339, Revision 5, dated May 4, 2012.

(iii) Goodrich Service Bulletin 5A3307-25-389, Revision 2, dated May 4, 2012.

(3) For Goodrich service information identified in this AD, contact Goodrich Corporation, Aircraft Interior Products, ATTN: Technical Publications, 3414 South Fifth Street, Phoenix, Arizona 85040; phone: 602-243-2270; Internet: http://www.goodrich.com/TechPubs.

(4) You may review copies of the referenced service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on December 4, 2012.
Kalene C. Yanamura,
Acting Manager, Transport Airplane Directorate, Aircraft Certification Service.

[FR Doc. 2012-29999 Filed 12-24-12; 8:45 am]

BILLING CODE 4910-13-P